ENVIRONMENTAL PROTECTION AGENCY

[EPA-HQ-OLEM-2018-0767; FRL-10266-01-OMS]

Information Collection Request Submitted to OMB for Review and Approval; Comment Request; Solid Waste Disposal Facility Criteria (Renewal)

AGENCY: Environmental Protection Agency (EPA).

ACTION: Notice.

SUMMARY: The Environmental Protection Agency (EPA) has submitted an information collection request (ICR), Solid Waste Disposal Facility Criteria (EPA ICR Number 1381.13, OMB Control Number 2050-0122) to the Office of Management and Budget (OMB) for review and approval in accordance with the Paperwork Reduction Act. This is a proposed extension of the ICR, which is currently approved through November 30, 2022. Public comments were previously requested via the Federal Register on March 23, 2022 during a 60-day comment period. This notice allows for an additional 30 days for public comments. A fuller description of the ICR is given below, including its estimated burden and cost to the public. An agency may not conduct or sponsor and a person is not required to respond to a collection of information unless it displays a currently valid OMB control number.

DATES: Additional comments may be submitted on or before October 31, 2022.

ADDRESSES: Submit your comments, referencing Docket ID No. EPA-HQ-OLEM-2018-0767, online using www.regulations.gov (our preferred method), or by mail to: RCRA Docket (2822T), U.S. Environmental Protection Agency, 1200 Pennsylvania Avenue NW, Washington, DC 20460. The EPA's policy is that all comments received will be included in the public docket without change, including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Craig Dufficy, Materials Recovery and Waste Management Division, Office of Resource Conservation and Recovery, Mail Code 5304T, Environmental Protection Agency, 1200 Pennsylvania Ave. NW, Washington, DC 20460; telephone number: (202) 566-0537; fax number: (202) 250-8572; email address: dufficy.craig@epa.gov.

SUPPLEMENTARY INFORMATION: Supporting documents, which explain in detail the information that the EPA will be collecting, are available in the public docket for this ICR. The docket can be viewed online at www.regulations.gov. Materials can also be viewed at the Reading Room located at the EPA Docket Center, WJC West Building, Room 3334, 1301 Constitution Avenue NW, Washington, DC 20004. The Docket Center's hours of operations are 8:30 a.m.-4:30 p.m., Monday-Friday (except Federal Holidays). The telephone number for the Docket Center is 202-566-1744.

Abstract: In order to effectively implement and enforce final changes to 40 CFR part 258 on a State level, owners/operators of municipal solid waste landfills have to comply with the final reporting and recordkeeping requirements. Respondents include owners or operators of new municipal solid waste landfills (MSWLFs), existing MSWLFs, and lateral expansions of existing MSWLFs. The respondents, in complying with 40 CFR part 258, are required to record information in the facility operating record, pursuant to § 258.29, as it becomes available. The operating record must be supplied to the State as requested until the end of the post-closure care period of the MSWLF. The information collected will be used by the State Director to confirm owner or operator compliance with the regulations under Part 258. These owners or operators could include Federal, State, and local governments, and private waste management companies. Facilities in NAICS codes 9221, 5622, 3252, 3251 and 3253 may be affected by this rule.

Form Numbers: None.

Respondents/affected entities: Recordkeeping and Reporting—Solid Waste Disposal Facilities and Practices.

Respondent's obligation to respond: The respondents, in complying with 40 CFR part 258, are required to record information in the facility operating record, pursuant to § 258.29, as it becomes available.

Estimated number of respondents: 3,800.

Frequency of response: On occasion.

Total estimated burden: 211,262 hours (per year). Burden is defined at 5 CFR 1320.03(b).

Total estimated cost: $17,286,006 (per year), which includes $15,075,153 in annualized labor and $2,210,853 in annualized capital or operation & maintenance costs.

Changes in the Estimates: There is an increase of 25,819 hours in the total estimated burden currently identified in the OMB Inventory of Approved ICR Burdens. On this ICR, one-time burdens from the cumulative reporting requirements of the Research, Development & Demonstration rule under 40 CFR part 258.4.

Courtney Kerwin,
Director, Regulatory Support Division.

[FR Doc. 2022-21238 Filed 9-29-22; 8:45 am]

BILLING CODE 6560-50-P